DEPARTMENT OF COMMERCE

National Oceanic and Atmospheric Administration

RIN 0648-XX94

2010 Russian Export Certification for Fishery Products

AGENCY: Seafood Inspection Program (SIP), National Marine Fisheries Service (NMFS), National Oceanic and Atmospheric Administration (NOAA), Commerce.

ACTION: Notice.

SUMMARY: The National Oceanic and Atmospheric Administration Seafood Inspection Program (NOAA SIP), through this notice, is announcing the requirements for exportation of fish and fishery products to the Russian Federation as set forth in the Memorandum of Understanding between Rosselkhoznadzor (the responsible Russian government agency) and the United States Department of Commerce, National Oceanic and Atmospheric Administration, which became effective on February 25, 2010.

FOR FURTHER INFORMATION CONTACT: Mr. Steven Wilson, Steven.Wilson@noaa.gov, Chief Quality Officer, Seafood Inspection Program, NOAA National Marine Fisheries Service, 1315 East West Highway, Room 10840, Silver Spring, MD 20910, (301) 713-2355 EXT. 217

SUPPLEMENTARY INFORMATION:

Background

On February 25, 2010, a Memorandum of Understanding (MOU) was signed by Russian officials marking the completion of an agreement between the National Oceanic and Atmospheric Administration (NOAA) and Rosselkhoznadzor of the Russian Federation regarding the certification of seafood products exported from the United States to the Russian Federation. The purpose of the agreement is to establish the terms for cooperation on monitoring the quality and safety of seafood products exported from the United States to the Russian Federation. Pursuant to the MOU, NOAA, through its Seafood Inspection Program, will issue export health certificates only to those firms on the SIP List of Approved Establishments and approved by Rosselkhoznadzor for export of seafood products to Russia.

The Seafood Inspection Program of the National Marine Fisheries Service (NMFS), National Oceanic and Atmospheric Administration (NOAA), Department of Commerce, operating under authority of the Agricultural Marketing Act (7 U.S.C. 1621 et seq.) and the Fish and Wildlife Act (16 U.S.C. 742a et seq.), is responsible for the development and advancement of commercial grade standards for fishery products and better health and sanitation standards in the industry and for furnishing inspection, evaluation, analytical, grading, and certification services to interested parties. Its primary purpose is to encourage and assist the industry in improving the quality, wholesomeness, safety, proper labeling, and marketability of seafood products.

In 2006, Rosselkhoznadzor notified the U.S. Government through the U.S. Embassy in Moscow of a change in Russian domestic law which allows Russian officials to deny entry of products into the Russian Federation in the absence of an agreement between the exporting country and Russia regarding certification of the safety and sanitary condition of fish and fishery products for export to the Russian Federation. Russian and U.S. officials met several times and exchanged correspondence regarding the new requirements in 2008 and 2009. In March 2009, NOAA and U.S. Food and Drug Administration (FDA) officials met with representatives of Russia's Rosselkhoznadzor. The U.S. delegation clarified that FDA is the responsible agency for the safety of imported food products from the Russian Federation and NOAA will provide certification services to exporters shipping seafood to the Russian Federation. In August 2009, the U.S. agreed to allow officials of Rosselkhoznadzor to visit selected seafood processing firms during which time Russian officials could observe and determine the status of controls in place for approved establishments of the NOAA Seafood Inspection Program. During the course of that visit, the parties had a series of discussions to arrive at the agreements found in the MOU between the two agencies.

New Procedures for Export Health Certification to the Russian Federation

According to the terms of the MOU, U.S. seafood firms in the supply chain desiring to produce, pack, store, or ship fish and fishery products for export to the Russian Federation are required to meet the requirements of the NOAA Seafood Inspection Program to be approved establishments in accordance with the regulations and policies of the NOAA Seafood Inspection Program, including but not limited to being in regulatory good standing with the FDA. Only such establishments meeting the requirements and subsequently approved by Rosselkhoznadzor may receive certification from the NOAA Seafood Inspection Program for export of fish and fishery products to the Russian Federation. The NOAA Seafood Inspection Program will allow a 90 day grace period after which U.S. seafood firms must fully comply with the new requirements.

More specifically, each U.S. seafood firm in the supply chain for export to the Russian Federation must:

• Demonstrate through inspection by the NOAA Seafood Inspection Program that seafood products produced at each U.S. seafood firm in the supply chain and exported to the Russian Federation meet the applicable Codex Alimentarius Commission (Codex), and the Organization for International Epizootics (OIE) standards, and meet the food safety objectives of U.S. and Russian Federation laws and regulations for seafood products

• Maintain regulatory good standing with the FDA. Only those U.S. seafood firms with a unique firm identification number, either a Central File Number or Firm Establishment Identifier, issued by the FDA are eligible to receive an export health certificate from the Seafood Inspection Program for export of seafood products to Russia.

• Demonstrate through inspection by the NOAA Seafood Inspection Program that each U.S. seafood firm in the supply chain meets the Seafood Inspection Program requirements for inclusion on a List of Approved Establishments. Only those establishments on the List of Approved Establishments will be eligible to export seafood products to Russia. The NOAA Seafood Inspection Program will post the List of Approved Establishments on the its website. (http://www.seafood.nmfs.noaa.gov/) and submit to Rosselkhoznadzor all changes in the list of approved establishments for export to the Russian Federation, including changes resulting from audits by Rosselkhoznadzor or the NOAA Seafood Inspection Program. The establishment is not finally approved until notification is provided by Rosselkhoznadzor. Only firms approved by Rosselkhoznadzor will be eligible to receive export certificates from the NOAA Seafood Inspection Program.

In order to meet the Seafood Inspection Program requirements as an approved establishment, U.S. seafood firms must contract for inspection services by the Seafood Inspection Program, provide a guarantee of payment, pass an initial audit of the seafood firm, and continually pass audits on a minimum of a quarterly basis. Under the terms of the contractual agreement between the firm and the Seafood Inspection Program, the firm must allow the program to conduct random, periodic audits of the firm to ensure that the relevant veterinary and sanitary requirements of the Seafood Inspection Program are met. If an audit reveals that an approved establishment is not in substantial compliance with the appropriate regulations, the Seafood Inspection Program will cease issuing export certificates to this establishment and inform Rosselkhoznadzor. The Seafood Inspection Program will inform Rosselkhoznadzor when an establishment is once again eligible for exporting seafood to the Russian Federation.

Separate and apart from the terms of the MOU, Rozzelkhozdzor has informed the NOAA Seafood Inspection Program that it will request information from U.S. seafood firms on the List of Approved Establishments shipping product to the Russian Federation regarding the importer of record in the Russian Federation. If the firm refuses to provide this information, Rosselkhoznadzor has stated that it may not allow the import of product from the firm into Russia.

Dated: August 9, 2010.
Eric C. Schwaab,
Assistant Administrator For Fisheries, National Marine Fisheries Service.

[FR Doc. 2010-19955 Filed 8-11-10; 8:45 am]

BILLING CODE 3510-22-S